DEPARTMENT OF ENERGY

Federal Energy Regulatory Commission

Combined Notice of Filings #1

Take notice that the Commission received the following electric rate filings:

Docket Numbers: ER11-4633-004.

Applicants: Madison Gas and Electric Company.

Description: Supplement to June 22, 2018 Updated Market Power Analysis of Madison Gas & Electric Company (Transmittal Letter). Also on October 18, 2018, filed Revised Exhibit DBS-2.

Filed Date: 10/18/18.

Accession Number: 20181018-5148, 20181018-5149.

Comments Due: 5 p.m. ET 11/8/18.

Docket Numbers: ER17-1428-001.

Applicants: Midcontinent Independent System Operator, Inc.

Description: Midcontinent Independent System Operator, Inc. submits tariff filing per 35.19a(b): Refund Report to be effective N/A.

Filed Date: 10/16/18.

Accession Number: 20181016-5206.

Comments Due: 5 p.m. ET 11/6/18.

Docket Numbers: ER18-563-001.

Applicants: Midcontinent Independent System Operator, Inc.

Description: Midcontinent Independent System Operator, Inc. submits tariff filing per 35.19a(b): Refund Report [ER18-563 and EL18-59] to be effective N/A.

Filed Date: 10/16/18.

Accession Number: 20181016-5205.

Comments Due: 5 p.m. ET 11/6/18.

Docket Numbers: ER18-1150-001.

Applicants: Trishe Wind Ohio, LLC.

Description: Notice of Non-Material Change in Status of Trishe Wind Ohio, LLC.

Filed Date: 10/18/18.

Accession Number: 20181018-5143.

Comments Due: 5 p.m. ET 11/8/18.

Docket Numbers: ER18-1945-001.

Applicants: Alabama Power Company.

Description: Tariff Amendment: Deficiency Amendment to Southern's Tariff Vol. No. 4 Amendment Filing to be effective 12/31/9998.

Filed Date: 10/19/18.

Accession Number: 20181019-5025.

Comments Due: 5 p.m. ET 11/9/18.

Docket Numbers: ER18-2280-001.

Applicants: Alliant Energy Corporate Services, Inc.

Description: Tariff Amendment: Amendment to AECS Updated Rate Schedule 2 to be effective 11/1/2018.

Filed Date: 10/19/18.

Accession Number: 20181019-5089.

Comments Due: 5 p.m. ET 11/9/18.

Docket Numbers: ER18-2338-001.

Applicants: Midcontinent Independent System Operator, Inc.

Description: Tariff Amendment: 2018-10-19_SA 3151 Rosewater Wind Farm-NIPSCO GIA (J513) Substitute Original to be effective 8/15/2018.

Filed Date: 10/19/18.

Accession Number: 20181019-5026.

Comments Due: 5 p.m. ET 11/9/18.

Docket Numbers: ER19-8-000.

Applicants: Sweetwater Solar, LLC.

Description: Supplement to October 1, 2018 Sweetwater Solar, LLC tariff filing.

Filed Date: 10/17/18.

Accession Number: 20181017-5228.

Comments Due: 5 p.m. ET 11/7/18.

Docket Numbers: ER19-142-000.

Applicants: PJM Interconnection, L.L.C.

Description: § 205(d) Rate Filing: Revision to RAA Article 1 re Winter Peal Load Calculation to be effective 12/17/2018.

Filed Date: 10/18/18.

Accession Number: 20181018-5106.

Comments Due: 5 p.m. ET 11/8/18.

Docket Numbers: ER19-143-000.

Applicants: PJM Interconnection, L.L.C.

Description: § 205(d) Rate Filing: Second Revised ISA, SA No. 1127; Queue No. AD1-099 to be effective 9/20/2018.

Filed Date: 10/18/18.

Accession Number: 20181018-5128.

Comments Due: 5 p.m. ET 11/8/18.

Docket Numbers: ER19-144-000.

Applicants: Midcontinent Independent System Operator, Inc., ALLETE, Inc.

Description: § 205(d) Rate Filing: 2018-10-19_SA 3188 MP-GRE T-L IA (Motley) to be effective 10/20/2018.

Filed Date: 10/19/18.

Accession Number: 20181019-5042.

Comments Due: 5 p.m. ET 11/9/18.

Docket Numbers: ER19-145-000.

Applicants: Midcontinent Independent System Operator, Inc., ALLETE, Inc.

Description: § 205(d) Rate Filing: 2018-10-19_SA 3189 MP-GRE T-L IA (Bear Creek) to be effective 10/20/2018.

Filed Date: 10/19/18.

Accession Number: 20181019-5093.

Comments Due: 5 p.m. ET 11/9/18.

Docket Numbers: ER19-146-000.

Applicants: NSTAR Electric Company.

Description: Initial rate filing: NSTAR-HQUS Transfer Agreement (ENE Use Rights) to be effective 11/20/2018.

Filed Date: 10/19/18.

Accession Number: 20181019-5122.

Comments Due: 5 p.m. ET 11/9/18.

Docket Numbers: ER19-147-000.

Applicants: Southern California Edison Company.

Description: § 205(d) Rate Filing: GIAs and Distribution Service Agmts Hecate Energy Johanna Facility LLC to be effective 10/20/2018.

Filed Date: 10/19/18.

Accession Number: 20181019-5134.

Comments Due: 5 p.m. ET 11/9/18.

Docket Numbers: ER19-148-000.

Applicants: Southern California Edison Company.

Description: § 205(d) Rate Filing: GIAs and Distribution Service Agmts Convergent Energy and Power LP to be effective 10/20/2018.

Filed Date: 10/19/18.

Accession Number: 20181019-5137.

Comments Due: 5 p.m. ET 11/9/18.

Docket Numbers: ER19-149-000.

Applicants: New York State Electric & Gas Corporation.

Description: § 205(d) Rate Filing: NYSEG-DCEC Attachment C Annual Update to be effective 1/1/2019.

Filed Date: 10/19/18.

Accession Number: 20181019-5155.

Comments Due: 5 p.m. ET 11/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2018.
Nathaniel J. Davis, Sr.,
Deputy Secretary.

[FR Doc. 2018-23439 Filed 10-25-18; 8:45 am]

BILLING CODE 6717-01-P